DEPARTMENT OF COMMERCE

Minority Business Development Agency

[Docket No.: 0912231439-0019-020]

Amended Solicitation of Applications for the Minority Business Enterprise Center (MBEC) Program

AGENCY: Minority Business Development Agency, Commerce.

ACTION: Notice.

SUMMARY: On December 30, 2009, the Minority Business Development Agency (MBDA) published a notice in the Federal Register (74 FR 69072) soliciting competitive grant applications under the Agency's Minority Business Enterprise Center (MBEC) program. The original notice solicited applications for operators of the New Orleans MBEC project, and identified New Orleans, LA as the physical location of the MBEC office and the New Orleans-Metairie-Kenner, LA Metropolitan Statistical Area (MSA) as the geographical service area for the project. In addition, the original solicitation provided for a pre-application conference to be held on January 15, 2010, and for an application closing date of February 1, 2010.

MBDA is publishing this notice to: correct certain errors in the original notice pertaining to the name, office location, and geographical service area of the project; change the date of the pre-application conference; and extend the closing date for submitting competitive grant applications to operate this project. Specifically, this notice renames the project from the New Orleans MBEC to the Louisiana MBEC, changes the physical location of the MBEC office from New Orleans, LA to the New Orleans-Metairie-Kenner MSA, and changes the geographical service area for this project from the New Orleans-Metairie-Kenner, LA MSA to the entire State of Louisiana. This notice also changes the date of the pre-application conference from January 15, 2010 to January 26, 2010, and extends the closing date for the receipt of applications until February 15, 2010 at 5:00 p.m. Eastern Standard Time (EST). All other requirements for this competitive solicitation, including but not limited to application requirements, evaluation criterion, funding levels, and term of award, remain the same as those published in the original December 30, 2009 notice.

A link to the full text of the Amended Announcement of Federal Funding Opportunity (FFO) for this solicitation may be accessed at: http://www.Grants.gov, http://www.mbda.gov, or by contacting Rita Gonzales, Program Manager, MBDA Office of Business Development, 1401 Constitution Avenue, NW., Room 5075, Washington, DC 20230; telephone: 202-482-1940. The Amended FFO contains a full and complete description of the application and programmatic requirements for this solicitation. In order to receive proper consideration, applicants must comply with the requirements contained in the Amended FFO. Applications received by MBDA as of the date of this notice will be returned without prejudice to the applicant, so as to provide the applicant with an opportunity to revise the application consistent with the changes identified in this notice and in the Amended FFO.

The application requirements for this solicitation invoke collection-of-information requirements subject to the Paperwork Reduction Act (PRA). The use of Standard Forms 424, 424A, 424B, SF-LLL, and CD-346 has been approved by OMB under the respective control numbers 4040-0004, 4040-0006, 4040-0007, 0348-0046, and 0605-0001. Notwithstanding any other provisions of law, no person is required to respond to, nor shall any person be subject to a penalty for failure to comply with a collection of information subject to the PRA unless that collection of information displays a currently valid OMB Control Number.

This notice has been determined to be not significant for purposes of E.O. 12866. In addition, prior notice and an opportunity for public comment are not required by the Administrative Procedure Act for rules concerning public property, loans, grants, benefits, or contracts (5 U.S.C. 533(a)(2)). Because notice and opportunity for comment are not required pursuant to 5 U.S.C. 533 or any other law, the analytical requirements of the Regulatory Flexibility Act (5 U.S.C. 601 et seq.) are inapplicable. Therefore, a regulatory flexibility analysis is not required and has not been prepared.

Dated: January 13, 2010.
David A. Hinson,
National Director, Minority Business Development Agency.

[FR Doc. 2010-831 Filed 1-15-10; 8:45 am]

BILLING CODE 3510-21-P